DEPARTMENT OF COMMERCE

Economic Development Administration

[Docket No.: 070309052-7053-01]

Solicitation of Proposals and Applications for Economic Development Assistance Programs

AGENCY: Economic Development Administration (EDA), Department of Commerce.

ACTION: Notice and request for proposals and applications.

SUMMARY: The Economic Development Administration (EDA) is soliciting proposals or applications (as appropriate) for the following programs authorized by the Public Works and Economic Development Act of 1965 (42 U.S.C. 3121 et seq.) (PWEDA): (1) Public Works and Economic Development Investments Program, (2) Planning Program, (3) Local Technical Assistance Program, and (4) Economic Adjustment Assistance Program. EDA's mission is to lead the federal economic development agenda by promoting innovation and competitiveness, preparing American regions for growth and success in the worldwide economy. In implementing this mission pursuant to its authorizing statute, PWEDA, EDA advances economic growth by assisting communities and regions experiencing chronic high unemployment and low per capita income to create an environment that fosters innovation, promotes entrepreneurship, and attracts increased private capital investment. Under the Trade Act of 1974, as amended (19 U.S.C. 2341-2391) (Trade Act), EDA also provides technical assistance to firms adversely affected by increased import competition.

DATES: Proposals are accepted on a continuing basis and applications are invited and processed as received. Generally, two months are required for EDA to reach a final decision after receipt of a complete application that meets all requirements. Proposals or applications (as appropriate) received after the date of this notice will be processed in accordance with the requirements set forth herein and in the related Federal funding opportunity (FFO) announcement, until the next annual FFO is posted on http://www.Grants.gov and related notice and request for proposals and applications is published in the Federal Register.

Pre-Application and Application Submission Requirements

Proponents are advised to carefully read the instructions contained in the complete FFO announcement for this request for proposals and applications, and in the Pre-Application for Investment Assistance (Form ED-900P) and Application for Investment Assistance (Form ED-900A). The requirements of the pre-application are different than the requirements of the application. The content of the pre-application or the application (as appropriate) is the same for paper submissions as it is for electronic submissions. EDA will not accept facsimile transmissions of pre-applications and applications.

Proposals under EDA's Public Works Program (CFDA No. 11.300) or Economic Adjustment Assistance Program (CFDA No. 11.307) must be submitted on Form ED-900P, which may be submitted in two formats: (i) In paper (hardcopy) format at the applicable regional office address provided below; or (ii) electronically in accordance with the procedures provided on http://www.Grants.gov.

For projects under EDA's Planning Program (CFDA No. 11.302) or Technical Assistance Program (CFDA No. 11.303), please contact the appropriate EDA regional office listed below for instructions as to whether you should complete a pre-application or an application. In the case of a continuation grant, no pre-application is required.

The following forms may be accessed and downloaded as follows: (i) Forms ED-900P and ED-900A at http://www.eda.gov/InvestmentsGrants/Application.xml; (ii) Standard Forms (SF) at either http://www.Grants.gov or at http://www.eda.gov/InvestmentsGrants/Application.xml; and (iii) Department of Commerce (CD) forms at http://www.doc.gov/forms.

Addresses and Telephone Numbers for EDA's Regional Offices: Applicants in Alabama, Florida, Georgia, Kentucky, Mississippi, North Carolina, South Carolina and Tennessee, may submit paper submissions to:

Economic Development Administration, Atlanta Regional Office, 401 West Peachtree Street, NW., Suite 1820, Atlanta, Georgia 30308, Telephone: (404) 730-3002, Fax: (404) 730-3025.

Applicants in Arkansas, Louisiana, New Mexico, Oklahoma and Texas, may submit paper submissions to:

Economic Development Administration, Austin Regional Office, 504 Lavaca, Suite 1100, Austin, Texas 78701-2858, Telephone: (512) 381-8144, Fax: (512) 381-8177.

Applicants in Illinois, Indiana, Michigan, Minnesota, Ohio and Wisconsin, may submit paper submissions to:

Economic Development Administration, Chicago Regional Office, 111 North Canal Street, Suite 855, Chicago, Illinois 60606, Telephone: (312) 353-7706, Fax: (312) 353-8575.

Applicants in Colorado, Iowa, Kansas, Missouri, Montana, Nebraska, North Dakota, South Dakota, Utah and Wyoming, may submit paper submissions to:

Economic Development Administration, Denver Regional Office, 1244 Speer Boulevard, Room 670, Denver, Colorado 80204, Telephone: (303) 844-4715, Fax: (303) 844-3968.

Applicants in Connecticut, Delaware, District of Columbia, Maine, Maryland, Massachusetts, New Hampshire, New Jersey, New York, Pennsylvania, Puerto Rico, Rhode Island, Vermont, U.S. Virgin Islands, Virginia and West Virginia, may submit paper submissions to:

Economic Development Administration, Philadelphia Regional Office, Curtis Center, 601 Walnut Street, Suite 140 South, Philadelphia, Pennsylvania 19106, Telephone: (215) 597-4603, Fax: (215) 597-1063.

Applicants in Alaska, American Samoa, Arizona, California, Guam, Hawaii, Idaho, Marshall Islands, Micronesia, Nevada, Northern Mariana Islands, Oregon, Republic of Palau and Washington, may submit paper submissions to:

Economic Development Administration, Seattle Regional Office, Jackson Federal Building, Room 1890, 915 Second Avenue, Seattle, Washington 98174, Telephone: (206) 220-7660, Fax: (206) 220-7669.

Paper Submissions: To apply for Public Works or Economic Adjustment Assistance under this notice, you may submit a proposal on a completed pre-application (ED-900P) to the applicable EDA regional office listed above. Proponents choosing this option should download and print copies of Form ED-900P and the Application for Federal Assistance (Form SF-424) at http://www.eda.gov/InvestmentsGrants/Application.xml, complete Parts I, II and III of Form ED-900P and Form SF-424, and attach the project narrative statement requested in section IV.B.1. of the FFO announcement for this request for proposals and applications. To apply for Planning or Technical Assistance under this notice, the EDA regional office may instruct you to submit an application in lieu of the pre-application. After consultation with the regional office, you may submit a completed pre-application or an application, as instructed, to the applicable EDA regional office.

A proponent must submit one (1) original and two (2) copies of a completed pre-application or application (as appropriate) via postal mail, shipped overnight or hand-delivered to the applicable regional office, unless otherwise directed by EDA staff. Proponents are advised that Department of Commerce mail security measures may delay receipt of United States Postal Service mail for up to two weeks. Proponents may wish to use guaranteed overnight delivery services.

Electronic Submissions: Proponents applying under the Public Works Program or the Economic Adjustment Assistance Program may submit pre-applications electronically in accordance with the instructions provided at http://www.Grants.gov. You may access the pre-application package by following the instructions provided on http://www.grants.gov/applicants/apply_for_grants.jsp. The preferred file format for electronic attachments (e.g., the project narrative statement and exhibits to Form ED-900P) is portable document format (PDF); however, EDA will accept electronic files in Microsoft Word, WordPerfect, Lotus or Excel formats.

Applicants for assistance under the Planning Program or the Technical Assistance Program may not need to submit a pre-application. If the regional office instructs you to submit an application (Form ED-900A) instead of a pre-application (Form ED-900P) for projects under these two programs, you may submit the application in paper (hardcopy) format or you may submit the application electronically via http://www.Grants.gov. If the regional office instructs you to submit a pre-application, you also may submit the pre-application in paper (hardcopy) format or electronically via http://www.Grants.gov.

Applicants should access the following link for assistance in navigating http://www.Grants.gov and for a list of useful resources: http://www.grants.gov/applicants/applicant_help.jsp. If you do not find an answer to your question under Frequently Asked Questions, try consulting the Applicant's User Guide. If you still cannot find an answer to your question, contact http://www.Grants.gov via email at support@grants.gov or telephone at 1.800.518.4726. The hours of operation for http://www.Grants.gov are Monday-Friday, 7 a.m. to 9 p.m. (EST) (except for Federal holidays).

FOR FURTHER INFORMATION CONTACT: For additional information or for a paper copy of the FFO announcement, contact the appropriate EDA regional office listed above. EDA's Internet Web site at http://www.eda.gov also contains additional information on EDA and its programs.

SUPPLEMENTARY INFORMATION: Program Information: EDA encourages the submission of only those proposals or applications, as appropriate, which will significantly benefit regions with distressed economies. Distress may exist in a variety of forms, including high levels of unemployment, low income levels, large concentrations of low-income families, significant declines in per capita income, large numbers (or high rates) of business failures, sudden major layoffs or plant closures, trade impacts, military base closures, natural or other major disasters, depletion of natural resources, reduced tax bases, or substantial loss of population because of the lack of employment opportunities. EDA believes that regional economic development to alleviate these conditions is effected primarily through investments and decisions made by the private sector. EDA will give preference to proposals or applications (as appropriate) that include cash contributions (over in-kind contributions) as the matching share.

EDA will evaluate and select proposals or applications (as appropriate) according to the investment policy guidelines and funding priorities set forth below under “Evaluation Criteria” and “Funding Priorities” and in section V. of the FFO announcement.

Electronic Access: The FFO announcement for the FY 2007 Economic Development Assistance Programs competition is available at http://www.Grants.gov. Additional information is available through EDA's Internet Web site at http://www.eda.gov.

Funding Availability: EDA is operating with appropriations made available under the Revised Continuing Appropriations Resolution, 2007, Public Law 110-5 (February 15, 2007). This Act makes $250.741 million available in FY 2007 for the economic development assistance programs authorized by PWEDA and for the Trade Adjustment Assistance for Firms Program (TAA Program) authorized under the Trade Act.

This notice will remain in effect until it is terminated or supplanted by a future Federal Register notice. The funding periods and funding amount(s) referenced in this notice and in the FFO announcement are subject to the availability of funds at the time of award, as well as to Department of Commerce and EDA priorities at the time of award. The Department of Commerce and EDA will not be held responsible for proposal or application preparation costs. Publication of this notice and the FFO announcement does not obligate the Department of Commerce or EDA to award any specific grant or cooperative agreement or to obligate all or any part of available funds.

This request for proposals and applications covers the following programs under PWEDA: (1) Public Works and Economic Development Investments Program; (2) Planning Program; (3) Technical Assistance Program; and (4) Economic Adjustment Assistance Program. Under the Technical Assistance Program, this request for proposals and applications covers Local Technical Assistance only. A separate FFO announcement will be posted on http://www.Grants.gov that will set forth the specific funding priorities, application and selection processes, time frames, and evaluation criteria for certain National Technical Assistance projects to be funded with FY 2007 appropriations. Similarly, a separate FFO announcement has been posted at http://www.Grants.gov that sets forth the specific funding priorities, application and selection processes, time frames, and evaluation criteria for University Center projects to be funded with FY 2007 appropriated program funds. With respect to the TAA Program under the Trade Act, continuation grants will not be competed and no new Trade Adjustment Assistance Center (TAAC) grants will be awarded this year. See 19 U.S.C. 2341-2391 and 13 CFR part 315.

Statutory Authority: The authority for the (1) Public Works and Economic Development Investments Program, (2) Planning Program, (3) Technical Assistance Program, and (4) Economic Adjustment Assistance Program is PWEDA. The authorities for the TAA Program are Chapters 3 and 5 of Title II of the Trade Act. EDA published final regulations (codified at 13 CFR Chapter III) in the Federal Register on September 27, 2006 (71 FR 56658). The final regulations became effective upon publication and reflect changes made to PWEDA by the Economic Development Administration Reauthorization Act of 2004 (Pub. L. 108-373, 118 Stat. 1756). The final regulations and PWEDA are accessible on EDA's Internet Web site at http://www.eda.gov/InvestmentsGrants/Lawsreg.xml.

Catalog of Federal Domestic Assistance (CFDA) Numbers: 11.300, Grants for Public Works and Economic Development Facilities; 11.302, Economic Development—Support for Planning Organizations; 11.303, Economic Development—Technical Assistance; 11.307, Economic Adjustment Assistance; 11.313, Economic Development—Trade Adjustment Assistance.

Applicant Eligibility: Pursuant to PWEDA, eligible applicants for and eligible recipients of EDA investment assistance include a(n): (i) District Organization; (ii) Indian Tribe or a consortium of Indian Tribes; (iii) State, a city or other political subdivision of a State, including a special purpose unit of a State or local government engaged in economic or infrastructure development activities, or a consortium of political subdivisions; (iv) institution of higher education or a consortium of institutions of higher education; or (v) public or private non-profit organization or association acting in cooperation with officials of a political subdivision of a State. See section 3 of PWEDA (42 U.S.C. 3122) and 13 CFR 300.3. Projects eligible for Public Works or Economic Adjustment investment assistance include those projects located in regions meeting “Special Need” criteria (as defined in 13 CFR 300.3), as set forth in section VIII.B. of the FFO announcement.

For-profit, private-sector entities do not qualify for investment assistance under PWEDA, with one minor exception: EDA may award a grant under section 207 (42 U.S.C. 3147) of PWEDA under its Local Technical Assistance Program or National Technical Assistance Program to a for-profit organization for the specific purposes set forth in 13 CFR 306.1. EDA is not authorized to provide grants directly to individuals or to for-profit entities seeking to start or expand a private business. Such requests may be referred to State or local agencies, or to non-profit economic development organizations serving the region in which the project will be located.

Any community affected by the 1988, 1991, 1993, 1995 or 2005 base realignment and closure (BRAC) actions, which qualifies under EDA's Public Works Program or Economic Adjustment Assistance Program, may apply for assistance under one or both of these programs. EDA anticipates that proponents with construction proposals will seek funding from the Public Works Program, and strategic planning, credit enhancement or other innovative financing proposals will compete under the Economic Adjustment Assistance Program.

Cost Sharing Requirements: Generally, the amount of the EDA grant may not exceed fifty (50) percent of the total cost of the project. Projects may receive an additional amount that shall not exceed thirty (30) percent, based on the relative needs of the region in which the project will be located, as determined by EDA. See section 204(a) of PWEDA (42 U.S.C. 3144) and 13 CFR 301.4(b)(1). For Planning Assistance, the minimum EDA investment rate for projects under 13 CFR part 303 is fifty (50) percent, and the maximum allowable EDA investment rate may not exceed eighty (80) percent. See 13 CFR 301.4(b)(3). For projects of a national scope under 13 CFR part 306 (Training, Research and Technical Assistance), and for all other projects under 13 CFR part 306, the Assistant Secretary of Commerce for Economic Development has the discretion to establish a maximum EDA investment rate of up to one-hundred (100) percent where the project (i) merits and is not otherwise feasible without an increase to the EDA investment rate; or (ii) will be of no or only incidental benefit to the recipient. See section 204(c)(3) of PWEDA (42 U.S.C. 3144) and 13 CFR 301.4(b)(4). In the case of EDA investment assistance to a(n) (i) Indian Tribe, (ii) State (or political subdivision of a State) that the Assistant Secretary determines has exhausted its effective taxing and borrowing capacity, or (iii) non-profit organization that the Assistant Secretary determines has exhausted its effective borrowing capacity, the Assistant Secretary has the discretion to establish a maximum EDA investment rate of up to one hundred (100) percent of the total project cost. See sections 204(c)(1) and (2) of PWEDA (42 U.S.C. 3144) and 13 CFR 301.4(b)(5). Potential applicants should contact the appropriate EDA regional office to make these determinations.

In the proposal (or application) review process, EDA will consider the nature of the contribution (cash or in-kind) and the amount of the matching share funds. While cash contributions are preferred, in-kind contributions, fairly evaluated by EDA, may provide the required non-federal share of the total project cost. See section 204(b) of PWEDA (42 U.S.C. 3144) and section I.B. of the FFO announcement for this request for proposals and applications. In-kind contributions, which may include assumptions of debt and contributions of space, equipment and services, are eligible to be included as part of the non-federal share of eligible project costs if they meet applicable Federal cost principles and uniform administrative requirements. Funds from other federal financial assistance awards are considered matching share funds only if authorized by statute, which may be determined by EDA's reasonable interpretation of the statute. See 13 CFR 300.3. The applicant must show that the matching share is committed to the project, available as needed and not conditioned or encumbered in any way that precludes its use consistent with the requirements of EDA investment assistance. See 13 CFR 301.5.

Intergovernmental Review: Proposals or applications for assistance under EDA's programs are subject to the State review requirements imposed by Executive Order 12372, “Intergovernmental Review of Federal Programs.”

Evaluation and Selection Procedures: Each pre-application or application (as appropriate) is circulated by a project officer within the applicable EDA regional office for review and comments. When the necessary input and information are obtained, the pre-application or application (as appropriate) is considered by the regional office's Investment Review Committee (IRC), which is comprised of regional office staff. The IRC discusses the pre-application or application (as appropriate) and evaluates it on two levels to (a) determine if the pre-application or application (as appropriate) meets the program-specific award and application requirements provided in 13 CFR 305.2 for Public Works investments, 13 CFR 303.3 for Planning investments, 13 CFR 306.2 for Local and National Technical Assistance, and 13 CFR 307.2 and 307.4 for Economic Adjustment Assistance; and (b) evaluate each pre-application or application (as appropriate) using the general evaluation criteria set forth in 13 CFR 301.8. These general evaluation criteria also are provided below under “Evaluation Criteria.”

In the case of a pre-application, after completing its evaluation, the IRC recommends to the Regional Director whether an application should be invited, documenting its recommendation in the meeting minutes or in the Investment Summary and the Project Proposal Summary and Evaluation Form. For quality control assurance, EDA Headquarters reviews the IRC's analysis of the project's fulfillment of the investment policy guidelines set forth below under “Evaluation Criteria” and in 13 CFR 301.8. After receiving quality control clearance, the Selecting Official, who is the Regional Director, considers the evaluations provided by the IRC and the degree to which one or more of the funding priorities provided below are included, in making his/her decision as to which proponents should be invited to submit formal applications for investment assistance. The Selecting Official then formally invites successful proponents to submit full applications (on Form ED-900A). If the Selecting Official declines to invite a full application, he/she provides written notice to the proponent.

If a proponent is selected to submit a formal application, the appropriate regional office will provide application materials and guidance in completing them. The proponent will generally have thirty (30) days to submit the completed application materials to the regional office. EDA staff will work with the proponent to resolve application deficiencies. EDA will notify the applicant if EDA accepts a completed application, and it is forwarded for final review and processing in accordance with EDA and Department of Commerce procedures.

Evaluation Criteria: EDA will select investment proposals or applications (as appropriate) competitively based on the investment policy guidelines and funding priority considerations identified in this notice. EDA will evaluate the extent to which a project embodies the maximum number of investment policy guidelines and funding priorities possible and strongly exemplifies at least one of each. All investment proposals or applications (as appropriate) will be competitively evaluated primarily on their ability to satisfy one (1) or more of the following investment policy guidelines, each of equivalent weight and which also are set forth in 13 CFR § 301.8.

1. Be market-based and results driven. An EDA investment will capitalize on a region's competitive strengths and will positively move a regional economic indicator measured on EDA's Balanced Scorecard, such as: An increased number of higher-skill, higher-wage jobs; increased tax revenue; or increased private sector investment.

2. Have strong organizational leadership. An EDA investment will have strong leadership, relevant project management experience, and a significant commitment of human resources talent to ensure a project's successful execution.

3. Advance productivity, innovation and entrepreneurship. An EDA investment will embrace the principles of entrepreneurship, enhance regional industry clusters, and leverage and link technology innovators and local universities to the private sector to create the conditions for greater productivity, innovation, and job creation.

4. Look beyond the immediate economic horizon, anticipate economic changes, and diversify the local and regional economy. An EDA investment will be part of an overarching, long-term comprehensive economic development strategy that enhances a region's success in achieving a rising standard of living by supporting existing industry clusters, developing emerging new clusters, or attracting new regional economic drivers.

5. Demonstrate a high degree of local commitment by exhibiting:

• High levels of local government or non-profit matching funds and private sector leverage;

• Clear and unified leadership and support by local elected officials; and

• Strong cooperation between the business sector, relevant regional partners and local, State and Federal governments.

In addition to using the investment policy guidelines set forth above, EDA also will evaluate all Planning proposals or applications (as appropriate) based on the (i) quality of the proposed scope of work for the development, implementation, revision or replacement of a comprehensive economic development strategy (CEDS); and (ii) qualifications of the proponent to implement the goals and objectives resulting from the CEDS. See 13 CFR 303.3(a)(1) and (2). To ensure that the proposal fully meets these requirements, proponents should pay particular attention to 13 CFR 303.7(b), which sets forth specific technical requirements for the CEDS.

Funding Priorities: Successful proposals or applications (as appropriate) for EDA's investment programs will be regionally-driven initiatives in areas of the Nation that are underperforming and eligible for EDA assistance, and that meet one or more of the following core criteria (investment proposals or applications that meet more than one core criterion will be given more favorable consideration):

1. Investments in support of long-term, coordinated and collaborative regional economic development approaches:

• Establish comprehensive regional economic development strategies that identify promising opportunities for long-term economic growth.

• Exhibit demonstrable, committed multi-jurisdictional support from leaders across all sectors:

i. Public (e.g., mayors, city councils, county executives, senior state leadership);

ii. Institutional (e.g., institutions of higher learning);

iii. Non-profit (e.g., chambers of commerce, development organizations); and

iv. Private (e.g., leading regional businesses, significant regional industry associations).

• Generate quantifiable positive economic outcomes.

2. Investments that support innovation and competitiveness:

• Develop and enhance the functioning and competitiveness of leading and emerging industry clusters in an economic region.

• Advance technology transfer from research institutions to the commercial marketplace.

• Bolster critical infrastructure (e.g., transportation, communications, specialized training) to prepare economic regions to compete in the world-wide marketplace.

3. Investments that encourage entrepreneurship:

• Cultivate a favorable entrepreneurial environment consistent with regional strategies.

• Enable economic regions to identify innovative opportunities among growth-oriented small and medium-size enterprises.

• Promote community and faith-based entrepreneurship programs aimed at improving economic performance in an economic region.

Additional consideration will be given to investment proposals or applications (as appropriate) which also:

• Respond to sudden and severe economic dislocations (e.g., major layoffs and/or plant closures, disasters).

• Enable BRAC-impacted communities to transition from a military to civilian economy.

• Advance the goals of linking historic preservation and economic development as outlined by Executive Order 13287, “Preserve America.”

• Support the economic revitalization of brownfields.

The Department of Commerce Pre-Award Notification Requirements for Grants and Cooperative Agreements: The administrative and national policy requirements for all Department of Commerce awards, contained in the Department of Commerce Pre-Award Notification Requirements for Grants and Cooperative Agreements, published in the Federal Register on December 30, 2004 (69 FR 78389), are applicable to this competitive solicitation.

Paperwork Reduction Act: This document contains collection-of-information requirements subject to the Paperwork Reduction Act (PRA). The use of Forms ED-900P (Pre-Application for Investment Assistance) and ED-900A (Application for Investment Assistance) has been approved by the Office of Management and Budget (OMB) under the control number 0610-0094. Notwithstanding any other provision of law, no person is required to respond to, nor shall any person be subject to a penalty for failure to comply with, a collection of information subject to the requirements of the PRA unless that collection of information displays a currently valid OMB control number.

Executive Order 12866 (Regulatory Planning and Review): This notice has been determined to be not significant for purposes of Executive Order 12866.

Executive Order 13132 (Federalism): It has been determined that this notice does not contain policies with Federalism implications as that term is defined in Executive Order 13132.

Administrative Procedure Act/Regulatory Flexibility Act: Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: March 16, 2007.
Sandy K. Baruah,
Assistant Secretary of Commerce for Economic Development.

[FR Doc. E7-5223 Filed 3-21-07; 8:45 am]

BILLING CODE 3510-24-P